DEPARTMENT OF AGRICULTURE

Commodity Credit Corporation

Notice of Funds Availability: Inviting Applications for the Emerging Markets Program

SUMMARY: The Commodity Credit Corporation (CCC) announces that it is inviting proposals for the 2018 Emerging Markets Program (EMP). The intended effect of this notice is to solicit proposals from the private sector and from government agencies for fiscal year 2018 and to set out the criteria for the awarding of funds under the program. The EMP is administered by personnel of the Foreign Agricultural Service (FAS).

DATES: To be considered for funding, proposals must be received by 5 p.m. Eastern Daylight Time, August 15, 2017. Any applications received after this time will be considered only if funds remain available.

FOR FURTHER INFORMATION CONTACT: Applicants needing assistance should contact Curt Alt in the Program Operations Division, Office of Trade Programs, Foreign Agricultural Service by courier: Room 6512, 1400 Independence Ave. SW., Washington, DC 20250, or by phone: (202) 720-4327, or by fax: (202) 720-9361, or by email: podadmin@fas.usda.gov. Information is also available on the Foreign Agricultural Service Web site at http://www.fas.usda.gov/programs/emerging-markets-program-emp.

SUPPLEMENTARY INFORMATION:

A. Funding Opportunity Description

Announcement Type: New.

Catalog of Federal Domestic Assistance (CFDA) Number: 10.603.

Authority: The EMP is authorized by section 1542(d)(1) of the Food, Agriculture, Conservation, and Trade Act of 1990, as amended. The EMP regulations appear at 7 CFR part 1486.

1. Purpose. The EMP assists U.S. entities in developing, maintaining, or expanding exports of U.S. agricultural commodities and products by funding activities that enhance emerging markets' food and rural business systems, including reducing trade barriers. The EMP is intended primarily to support export market development efforts of the private sector, but EMP resources may also be used to assist public organizations.

All U.S. agricultural commodities, except tobacco, are eligible for consideration. Agricultural product(s) should be comprised of at least 50 percent U.S. origin content by weight, exclusive of added water, to be eligible for funding. Proposals that seek support for multiple commodities are also eligible. EMP funding may only be used for generic activities intended to develop, maintain, or expand emerging markets for U.S. agricultural commodities and products. EMP funding may not be used to support the export of another country's products to the United States, or to promote the development of a foreign economy as a primary objective.

2. Appropriate Activities. All EMP projects must fall into at least one of the following four categories:

(a) Assistance to teams consisting primarily of U.S. individuals expert in assessing the food and rural business systems of other countries. This type of EMP project must include all three of the following:

• Conduct an assessment of the food and rural business system needs of an emerging market;

• Make recommendations on measures necessary to enhance the effectiveness of those systems; and

• Identify opportunities and projects to enhance the effectiveness of the emerging market's food and rural business systems in order to grow U.S. exports.

To be eligible, such proposals must clearly demonstrate that experts are primarily agricultural consultants, farmers, other persons from the private sector, or government officials and that they have expertise in assessing the food and rural business systems of other countries.

(b) Assistance to enable individuals from emerging markets to travel to the United States so that these individuals can, for the purpose of enhancing the food and rural business systems in their countries, consult with food and rural business system experts in the United States.

(c) Assistance to enable U.S. agricultural producers and other individuals knowledgeable in agricultural and agribusiness matters to travel to emerging markets to assist in transferring their knowledge and expertise to entities in the emerging market to enhance the market's rural and food business systems in support of U.S. exports. Such travel must be to emerging markets. Travel to developed markets is not eligible under the program even if the targeted market is an emerging market.

(d) Technical assistance to implement the recommendations or to carry out projects and/or opportunities identified under 2(a) above. Technical assistance that does not implement the recommendations, projects, and/or opportunities identified under 2(a) above is not eligible under the EMP.

Proposals that do not fall into one or more of the four categories above, regardless of previous guidance provided regarding the EMP, are not eligible for consideration under the program.

EMP funds may not be used to support normal operating costs of individual organizations, nor as a source to recover pre-award costs or prior expenses from previous or ongoing projects. Proposals that counter national strategies or duplicate activities planned or already underway by U.S. non-profit agricultural commodity or trade associations will not be considered. Other ineligible expenditures include: Branded product promotions (e.g., in-store, restaurant advertising, labeling, etc.); advertising; administrative and operational expenses for trade shows; Web site development; equipment purchases; and the preparation and printing of brochures, flyers, and posters (except in connection with specific technical assistance activities such as training seminars). For a more complete description of ineligible expenditures, please refer to the EMP regulations.

3. Eligible Markets. Because EMP funds are limited and the range of potential emerging market countries is broad, consideration will be given only to proposals that target countries or regional groups classified below the World Bank's threshold for upper middle-income economies. World Bank income limits and country classifications can change from year to year, with the result that a given country may qualify under the legislative and administrative criteria one year, but not the next. Therefore, applicants should consult the current World Bank country classification list for guidance.

A few countries technically qualify as emerging markets but may require a separate determination before funding can be considered because of political sensitivities.

B. Award Information

In general, all qualified proposals received before the application deadline will compete for EMP funding. The applicant's willingness to contribute resources towards the project, including cash, goods, and services, will be a critical factor in determining which proposals are funded under the EMP. Each proposal will also be judged on the potential benefits to the industry represented by the applicant and the degree to which the proposal demonstrates industry support.

The limited funds available and the wide range of eligible emerging markets worldwide generally preclude CCC from approving large budgets for individual projects. While there is no minimum or maximum amount set for EMP-funded projects, most projects are funded at a level of less than $500,000 and for a duration of one year. Private entities may submit multi-year proposals requesting higher levels of funding, although funding in such cases is generally limited to three years and provided one year at a time with commitments beyond the first year subject to interim evaluations and funding availability. Proposals from government entities are not eligible for multi-year funding.

Funding for successful proposals will be provided through specific agreements. The CCC, through FAS, will be kept informed of the implementation of approved projects through interim progress reports and final performance reports. Changes in the original project timelines and adjustments within project budgets must be approved in advance by FAS.

Note: EMP funds awarded to government agencies must be expended or otherwise obligated by close of business September 30, 2018.

C. Eligibility and Qualification Information

1. Eligible Organizations: Any U.S. private or government entity (e.g., universities, trade associations, agricultural cooperatives, state regional trade groups, state departments of agriculture, federal agencies, for-profit entities, and consulting businesses) with a demonstrated role or interest in the export of U.S. agricultural commodities or products may apply to the program. Proposals from research and consulting organizations will be considered if they provide evidence of substantial participation by and financial support from the U.S. industry. For-profit entities may not use program funds to conduct private business, promote private self-interests, supplement the costs of normal sales activities, or promote their own products or services beyond specific uses approved by CCC in a given project. Foreign organizations, whether government or private, may participate as third parties in activities carried out by U.S. organizations but are not eligible for direct funding assistance through the program.

2. Cost Sharing: No private sector proposal will be considered without a cost-share element from the applicant and/or U.S. partners. The EMP is intended to complement, not supplant, the efforts of the U.S. private sector. There is no minimum or maximum amount of cost-share, though the degree of commitment to a proposed project, represented by the amount and type of private funding, is one factor used in determining which proposals will be approved for funding. Cost-share may be actual cash invested or professional time of staff assigned to the project. Proposals for which private industry is willing to commit cash, rather than in-kind contributions such as staff resources, will be given priority consideration.

Cost-sharing is not required for proposals from government agencies, but is mandatory for all other eligible entities, even when they may be party to a joint proposal with a government agency. Contributions from USDA or other government agencies or programs may not be counted as cost-share by other applicants. Similarly, contributions from foreign (non-U.S.) organizations may not be counted toward the cost-share requirement, but may be counted in the total cost of the project.

3. Other: Proposals should include a justification for funding assistance from the program—an explanation as to what specifically could not be accomplished without Federal funding assistance and why the participating organization(s) would be unlikely to carry out the project without such assistance. Applicants may submit more than one proposal.

D. Application and Submission Information

1. Address to Submit Application Package: EMP applicants have the opportunity to utilize the Unified Export Strategy (UES) application process, an online system that provides a means for interested applicants to submit a consolidated and strategically coordinated single proposal that incorporates funding requests for all of the market development programs administered by FAS.

Applicants are strongly encouraged to submit their applications to FAS through the web-based UES application. The Internet-based format reduces paperwork and expedites FAS' processing and review cycle. Applicants planning to use the on-line UES system must first contact the Program Operations Division to obtain site access information. The Internet-based application is located at the following URL address: https://www.fas.usda.gov/ues/webapp/.

Although FAS highly recommends applying via the UES, applicants also have the option of submitting an electronic application to FAS via email to podadmin@fas.usda.gov.

Applicants experiencing difficulty or otherwise needing assistance applying to the program should contact the Program Operations Division, Office of Trade Programs, Foreign Agricultural Service by courier: Room 6512, 1400 Independence Ave. SW., Washington, DC 20250, or by phone: (202) 720-4327, or by fax: (202) 720-9361, or by email: podadmin@fas.usda.gov.

2. Content and Form of Application Submission: To be considered for the EMP, an applicant must submit to FAS information required by this Notice of Funds Availability and the EMP regulations at 7 CFR part 1486. EMP regulations and additional information are available at the following URL address: http://www.fas.usda.gov/programs/emerging-markets-program-emp.

In addition, in accordance with the Office of Management and Budget's issuance of a final policy (68 FR 38402 (June 27, 2003)) regarding the need to identify entities that are receiving government awards, all applicants must submit a Dun and Bradstreet Data Universal Numbering System (DUNS) number. An applicant may request a DUNS number at no cost by calling the dedicated toll-free DUNS number request line at (866) 705-5711.

In addition, in accordance with 2 CFR part 25, each entity that applies to the EMP and does not qualify for an exemption under 2 CFR 25.110 must:

(i) Provide a valid DUNS number in each application it submits to CCC;

(ii) Be registered in the System for Award Management (SAM) prior to submitting an application; and

(iii) Continue to maintain an active SAM registration with current information at all times during which it has an active Federal award or an application under consideration by CCC.

FAS may not make an award to an applicant until the applicant has complied with all applicable unique entity identifier and SAM requirements, and, if an applicant has not fully complied with the requirements by the time FAS is ready to make the award, FAS may determine that the applicant is not qualified to receive the award and use that determination as a basis for making an award to another applicant.

Similarly, in accordance with 2 CFR part 170, each entity that applies to the EMP and does not qualify for an exception under 2 CFR 170.110(b) must ensure it has the necessary processes and systems in place to comply with the applicable reporting requirements of 2 CFR part 170 should it receive EMP funding.

Applications should be no longer than ten (10) pages and include the following information:

(a) Date of proposal;

(b) Name of organization submitting proposal;

(c) Organization address, telephone, and fax;

(d) Tax ID number;

(e) DUNS number;

(f) Primary contact person;

(g) Full title of proposal;

(h) Target market(s);

(i) Specific description of activity/activities to be undertaken;

(j) Clear demonstration that successful implementation will enhance the emerging market's food and rural business system and/or reduce trade barriers, and will benefit the industry as a whole and not just the applicant(s);

(k) Current conditions and market analysis (production, supply, demand, import competition, U.S. trade) in the target market(s) affecting the commodity or product;

(l) Description of the need to assess the food and rural business systems of the emerging market, or of the recommendations, projects, and/or opportunities previously identified by an approved EMP assessment that are to be addressed by the project;

(m) Project objectives;

(n) Performance measures for quantifying progress and demonstrating results. In the development of performance measures, FAS believes the measures should meet the following criteria:

• Aligned: The indicator should, as closely as possible, measure exactly the relevant result.

• Clear: The indicator should be precise and unambiguous about what is being measured and how. There should be no doubt on how to measure or interpret the indicator.

• Quantifiable: The indicator(s) should sufficiently capture all of the elements of a result.

• Include an identified methodology: The data can be obtained to inform the indicator in a timely and efficient manner and the data are of high-quality.

The full set of indicators selected to monitor project performance should be sufficient to inform project management and oversight.

(o) Explanation of the underlying reasons for the project proposal and its approach, the anticipated benefits, and any additional pertinent analysis;

(p) Explanation as to what specifically could not be accomplished without Federal funding assistance and why the participating organization(s) would be unlikely to carry out the project without such assistance;

(q) Timeline(s) for implementation of activity, including start and end dates;

(r) Information on whether similar activities are or have previously been funded with USDA resources in the target country or countries (e.g., under the MAP and/or Cooperator programs);

(s) Detailed line item activity budgets:

• Cost items should be allocated separately to each participating organization;

• Costs for consultant fees should show the calculation of the daily rate and the number of days;

• Costs for travel expenses should show the number of trips and the destination, number of travelers, cost, and objective for each trip;

• Individual expense line items (e.g., salaries, travel expenses, consultant fees, administrative costs, etc.) should be listed on separate lines, each clearly indicating:

(1) Which items are to be covered by EMP funding;

(2) Which are to be covered by the participating U.S. organization(s); and

(3) Which are to be covered by foreign third parties (if applicable); and

(t) Qualifications of applicant(s) should be included as an attachment.

3. Funding Restrictions: Certain types of expenses are not eligible for reimbursement by the program, and there are limits on other categories of expenses, such as indirect overhead charges, travel expenses, and consulting fees. CCC will also not reimburse unreasonable expenditures or expenditures made prior to approval of a proposal. Full details of the funding restrictions are available in the EMP regulations.

4. Submission Dates and Times: EMP proposals are reviewed on a rolling basis during the fiscal year as long as EMP funding is available as set forth below:

• Proposals received by 5 p.m. Eastern Daylight Time, August 15, 2017, will be considered for funding with other proposals received by that date;

• Proposals not approved for funding during the initial review period will be reconsidered for funding after the review period only if the applicant specifically requests such reconsideration in writing and only if funding remains available;

• Proposals received after 5 p.m. Eastern Daylight Time, August 15, 2017, will be considered for funding in the order received only if funding remains available.

5. Other Submission Requirements: All Internet-based applications must be properly submitted by 5 p.m., Eastern Daylight Time, August 15, 2017, in order to be considered for funding; late submissions received after the deadline will be considered only if funding remains available. All applications submitted by email must be received at podadmin@fas.usda.gov by 5 p.m. Eastern Daylight Time, August 15, 2017, in order to receive the same consideration. After August 15, 2017, proposals will continue to be accepted on a rolling basis as long as funding remains.

E. Application Review Information

1. Evaluation criteria. FAS will consider a number of factors when reviewing proposals, including:

• Appropriateness of the Activity, which will vary based on the type of proposal but will include: For assessment proposals: Does the proposal present a methodology that is likely to result in the needed recommendations and identification of specific opportunities and projects? Is the assessment team comprised of credible U.S. experts with experience in assessing food and rural business systems? For travel proposals: Is the exchange of knowledge and expertise clearly described in terms of enhancements to the emerging market's food and rural business systems? Do we understand how travelers are selected? For technical assistance proposals: Are the proposed activities identified in the supporting assessment? Is the potential for the proposed activities to enhance the effectiveness of the emerging market's food and rural business systems sufficiently justified? (30%);

• Market Impact, including the degree to which the proposed project is likely to contribute to the development, maintenance, or expansion of U.S. agricultural exports to emerging markets; the conditions or constraints affecting the level of U.S. exports and market share for the agricultural commodity/product; demonstration of how a proposed project will benefit the industry as a whole; and the quality of the project's proposed performance measures and the ability of the performance measures to measure outcomes (impact) and not just outputs. (50%); and

• Completeness and Viability of the proposal, including evidence that the organization has the knowledge, expertise, ability, and resources to successfully implement the project, the entity's willingness to contribute resources to the project, and the applicant's reported past EMP results and evaluations, if applicable. (20%).

2. Review and Selection Process: All proposals will undergo a multi-phase review within FAS, by appropriate FAS field offices, and, as needed, by the private sector Advisory Committee on Emerging Markets to rate the qualifications, quality, and appropriateness of projects and the reasonableness of project budgets.

In addition, FAS, prior to making a Federal award with a total amount of Federal share greater than the simplified acquisition threshold, is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. FAS will consider any comments by the applicant, in addition to the other information in the designated integrity and performance system, in making a judgment about the applicant's integrity, business ethics, and record of performance under Federal awards when completing the review of risk posed by applicants as described in 2 CFR 200.205 “Federal awarding agency review of risk posed by applicants.”

F. Federal Award Administration Information

1. Award Notices: FAS will notify each applicant in writing of the final disposition of the submitted proposal. FAS will send an approval letter and project agreement to each approved applicant. The approval letter and agreement will specify the terms and conditions applicable to the project, including the levels of EMP funding and cost-share contribution requirements.

2. Administrative and National Policy Requirements: Interested parties should review the EMP regulations, which are available at the following URL address: http://www.fas.usda.gov/programs/emerging-markets-program-emp.

3. Reporting. Program reporting requirements are detailed in 7 CFR part 1486 and are provided in the Project Agreement.

G. Federal Awarding Agency Contact(s)

For additional information and assistance, contact the Program Operations Division, Office of Trade Programs, Foreign Agricultural Service, U.S. Department of Agriculture by courier: Room 6512, 1400 Independence Ave. SW., Washington, DC 20250, or by phone: (202) 720-4327, or by fax: (202) 720-9361, or by email: podadmin@fas.usda.gov.

Signed at Washington, DC, on May 12, 2017.
Holly Higgins,
Acting Administrator, Foreign Agricultural Service, and Acting Vice President, Commodity Credit Corporation.

[FR Doc. 2017-10105 Filed 5-18-17; 8:45 am]

BILLING CODE 3410-10-P